ENVIRONMENTAL PROTECTION AGENCY

40 CFR Part 52

[CA120-REC; FRL-7837-9]

Corrections to the California State Implementation Plan

AGENCY: Environmental Protection Agency (EPA).

ACTION: Final rule.

SUMMARY: EPA is finalizing the deletion of various local rules from the California State Implementation Plan (SIP) that were incorporated into the SIP in error. These primarily include rules concerning procedures before the local hearing board, local fees, enforcement authorities, posting of permits, administrative permit requirements, and appeals. EPA has determined that the continued presence of these rules in the SIP is potentially confusing and thus harmful to affected sources, local agencies and to EPA. The intended effect of this final action is to delete these rules and make the SIP consistent with the Clean Air Act as amended in 1990 (CAA or the Act).

DATES: Effective Date: This rule is effective on December 16, 2004.

ADDRESSES: You may inspect copies of the administrative record for this action at EPA's Region IX office during normal business hours. You may also see copies of the rules at the locations listed in SUPPLEMENTARY INFORMATION under “Public Inspection.”

FOR FURTHER INFORMATION CONTACT: Julie A. Rose, Rulemaking Office (AIR-4), Air Division, U.S. Environmental Protection Agency, Region IX, 75 Hawthorne Street, San Francisco, CA 94105; (415) 947-4126. E-mail: rose.julie@EPA.gov.

SUPPLEMENTARY INFORMATION:

Public Inspection

California Air Resources Board, Stationary Source Division, Rule Evaluation Section, 1001 “I” Street, Sacramento, CA 95814

Amador County Air Pollution Control District, 500 Argonaut Lane, Jackson, CA 95642

Antelope Valley Air Pollution Control District, 43301 Division Street, Suite 206, Lancaster, CA 93539-4409

Bay Area Air Quality Management District, 939 Ellis Street, San Francisco, CA 94109

Butte County Air Quality Management District, 2525 Dominic Drive, Suite J, Chico, CA 95928-7184

Calaveras County Air Pollution Control District, 891 Mountain Ranch Road, San Andreas, CA 95249-9709

Colusa County Air Pollution Control District, 100 Sunrise Blvd., Suite F, Colusa, CA 95932-3246

El Dorado County Air Pollution Control District, 2850 Fairlane Court, Building C, Placerville, CA 95667-4100

Feather River Air Quality Management District, 938-14th Street, Marysville, CA 95901-4149

Glenn County Air Pollution Control District, 720 North Colusa Street, Willows, CA 95988-0351

Great Basin Unified Air Pollution Control District, 157 Short Street, Suite 6, Bishop, CA 93514

Imperial County Air Pollution Control District, 150 South Ninth Street, El Centro, CA 92243-2801

Kern County (Southeast Desert) Air Pollution Control District, 2700 M. Street, Suite 302, Bakersfield, CA 93301-2370

Lake County Air Quality Management District, 883 Lakeport Blvd., Lakeport, CA 95453-5405

Lassen County Air Pollution Control District, 175 Russell Avenue, Susanville, CA 96130-4215

Mariposa County Air Pollution Control District, 5110 Bullion Street, Mariposa, CA 95338

Mendocino County Air Quality Management District, 306 E. Gobbi Street, Ukiah, CA 95482

Modoc County Air Pollution Control District, 202 W. Fourth Street, Alturas, CA 96101

Mojave Desert Air Quality Management District, 14306 Park Avenue, Victorville, CA 92392-2310

Monterey Bay Unified Air Pollution Control District, 24580 Silver Cloud Ct., Monterey, CA 93940-6536

North Coast Unified Air Quality Management District, 2300 Myrtle Avenue, Eureka, CA 95501-3327

Northern Sierra Air Quality Management District, 200 Litton Drive, Suite 320, Grass Valley, CA 95945-2509

Northern Sonoma County Air Pollution Control District, 150 Matheson Street, Healdsburg, CA 95448-4908

Placer County Air Pollution Control District, 11464 B Avenue, Auburn, CA 95603

San Diego County Air Pollution Control District, 9150 Chesapeake Drive, San Diego, CA 92123-1096

San Joaquin Valley Unified Air Pollution Control District, 1990 East Gettysburg, Fresno, CA 93726

San Luis Obispo County Air Pollution Control District, 3433 Roberto Court, San Luis Obispo, CA 93401-7126

Santa Barbara County Air Pollution Control District, 26 Castilian Drive, B-23, Goleta, CA 93117

Shasta County Air Quality Management District, 1855 Placer Street, Suite 101, Redding, CA 96001-1759

Siskiyou County Air Pollution Control District, 525 South Foothill Drive, Yreka, CA 96097-3036

South Coast Air Quality Management District, 21865 E. Copley Drive, Diamond Bar, CA 91765

Tehama County Air Pollution Control District, 1750 Walnut Street, Red Bluff, CA 96080

Tuolumne County Air Pollution Control District, 22365 Airport, Columbia, CA 95310

Ventura County Air Pollution Control District, 669 County Square Drive, Ventura, CA 93003

Yolo-Solano Air Quality Management District, 1947 Galileo Court, Suite 103, Davis, CA 95616

Throughout this document wherever “we,” “us,” or “our” are used, we mean EPA.

Table of Contents

I. Proposed Action

II. Public Comments and EPA Responses

III. EPA Action

IV. Administrative Requirements

I. Proposed Action

On January 22, 2004 (69 FR 3045), EPA proposed to delete various rules from the California SIP, after determining that they had been approved into the SIP in error. Most of these rules fall into one of the following categories:

A. Rules that govern local hearing board procedures and other administrative requirements such as the frequency of meetings, salaries paid to board members, and petitioning for a local hearing.

B. Administrative permit rules such as those that describe procedures for action, denial, appeal, reinstatement, and posting of permits to operate. Substantive local requirements to fulfill CAA new source review and operating permit provisions are Federally approved or delegated elsewhere.

C. Variance provisions that provide for modification of the requirements of the applicable SIP. The variance procedures included in today's action are based in State law. See California Health & Safety Code §§ 42350-64. State or district-issued variances provide an applicant with a mechanism to obtain relief from state enforcement of a State or local rule under certain conditions. Pursuant to Federal law, specifically section 110(i) of the Clean Air Act, 42 U.S.C. 7410(i), neither EPA nor a State may revise a State Implementation Plan (SIP) by issuing an “order, suspension, plan revision or other action modifying any requirement of an applicable implementation plan” without a plan promulgation or revision. EPA and California have long recognized that a state-issued variance, though binding as a matter of State law, does not prevent EPA from enforcing the underlying SIP provisions unless and until EPA approves that variance as a SIP revision. The variance provisions included in today's action are deficient for various reasons, including their failure to address the fact that a state or district-issued variance has no effect on Federal enforceability unless the variance is submitted to and approved by EPA as a SIP revision. Therefore, their inclusion in the SIP is inconsistent with the Act and may be confusing to regulated industry and the general public. Moreover, because state-issued variances require independent EPA approval in order to modify the substantive requirements of a SIP, removal of these variance provisions from the SIP will have no effect on regulated entities. See Industrial Environmental Association v. Browner, No. 97-71117 (9th Cir., May 26, 2000).

D. Various provisions describing local agency investigative or enforcement authority including the authority to inspect, make arrests, issue violation notices, and issue orders for abatement. States may need to adopt such rules to demonstrate adequate enforcement authority under section 110(a)(2) of the Act, but they should not be approved into the applicable SIP to avoid potential conflict with EPA's independent authorities provided in § 113, § 114 and elsewhere.

E. Local fee provisions that are not economic incentive programs and are not designed to replace or relax a SIP emission limit. While it is appropriate for local agencies to implement fee provisions, for example, to recover costs for issuing permits, it is generally not appropriate to make local fee collection federally enforceable.

II. Public Comments and EPA Responses

EPA's proposed action provided a 30-day public comment period. During this period, we did not receive any public comments.

III. EPA Action

Based on further review, we have decided not to finalize our proposed removal of Rule 230, Action on Applications from the Mendocino County Air Pollution Control District (MCAPCD) portion of the California SIP. These provisions appear appropriate for inclusion in the SIP.

As authorized in section 110(k)(6) of the Act, EPA is deleting all the rules listed in the proposal from the California SIP, with the exception of MCAPCD Rule 230 as noted above.

In this action, EPA is also reinserting a paragraph listing EPA-approved rules of the California SIP that were inadvertently deleted from Title 40 of the Code of Federal Regulations, part 52, § 52.220, paragraph (c)(31)(i)(A). On December 8, 1976, at 41 FR 53661, EPA published a final rulemaking action approving Rules 200 to 216 of the Great Basin Unified Air Pollution Control District submitted by the California Air Resources Board as revisions to the California SIP. The listing of these rules was inadvertently deleted from the Code of Federal Regulations. Two of these provisions, Rules 211 and 214, are being removed from the SIP in the new paragraph 52.220(c)(31)(i)(H). With these changes, the CFR description of the SIP will be up to date.

IV. Administrative Requirements

Under Executive Order 12866 (58 FR 51735, October 4, 1993), this action is not a “significant regulatory action” and therefore is not subject to review by the Office of Management and Budget. For this reason, this action is also not subject to Executive Order 32111, “Actions Concerning Regulations That Significantly Affect Energy Supply, Distribution, or Use” (66 FR 28355, May 22, 2001). This action imposes no additional requirements beyond those imposed by State law. Accordingly, the Administrator certifies that this rule will not have a significant economic impact on a substantial number of small entities under the Regulatory Flexibility Act (5 U.S.C. 601 et seq.). Because this rule does not impose any additional enforceable duty beyond that required by State law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). Nor will it have substantial direct effects on the States, on the relationship between the National Government and the States, or on the distribution of power and responsibilities among the various levels of government, as specified in Executive Order 13132 (64 FR 43255, August 10, 1999), because it does not alter the relationship or the distribution of power and responsibilities established in the Clean Air Act. This rule also is not subject to Executive Order 13045, “Protection of Children from Environmental Health Risks and Safety Risks” (62 FR 19885, April 23, 1997), because it is not economically significant.

In this action, EPA is not developing or adopting a technical standard. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 18, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Reporting and recordkeeping requirements.

Dated: October 22, 2004.
Keith Takata,
Acting Regional Administrator, Region IX.

Part 52, chapter I, title 40 of the Code of Federal Regulations is amended as follows:

PART 52—[AMENDED]

1. The authority citation for part 52 continues to read as follows:

Authority: 42 U.S.C. 7401 et seq.

Subpart F—California

2. Section 52.220 is amended by adding paragraphs: (b)(2)(iii), (b)(2)(iv), (b)(7)(ii), (b)(10)(ii), (b)(12) through (14), (c)(6)(i)(D), (c)(6)(ii)(C), (c)(6)(iii)(C), (c)(6)(iv)(C), (c)(6)(v)(C), (c)(6)(vi)(C) through (D), (c)(6)(vii)(C), (c)(6)(viii)(B), (c)(6)(ix)(B), (c)(6)(x)(C), (c)(6)(xi)(C), (c)(6)(xii)(C), (c)(6)(xiii)(C), (c)(6)(xiv)(C), (c)(6)(xvi)(C), (c)(6)(xx)(B), (c)(6)(xxiii) through (xxiv), (c)(21)(viii)(C), (c)(21)(xiv)(C), (c)(24)(iv)(C), (c)(24)(vii)(F) through (G), (c)(24)(x)(F), (c)(25)(i)(F), (c)(25)(ii)(E), (c)(26)(viii)(D), (c)(26)(ix)(C), (c)(26)(xvi)(F), (c)(26)(xvii)(E) through (G), (c)(27)(vii)(E), (c)(27)(viii)(E), (c)(28)(iv)(C), (c)(31)(i)(A), (c)(31)(i)(H) and (I), (c)(31)(vi)(F), (c)(31)(xviii)(G), (c)(32)(iii)(G), (c)(35)(xii)(I), (c)(35)(xiii)(E), (c)(35)(xv)(G), (c)(37)(v)(E), (c)(39)(ii)(H) through (I), (c)(39)(iv)(H) and (I), (c)(39)(vii)(E), (c)(39)(viii)(E), (c)(39)(x)(E), (c)(41)(x)(H) through (I), (c)(42)(x)(D), (c)(47)(i)(E) through (G), (c)(51)(xiii)(D), (c)(51)(xiv)(E), (c)(51)(xx)(D), (c)(52)(xiii)(F), (c)(52)(xvi)(D), (c)(56)(ii)(D), (c)(58)(iii)(C), (c)(65)(iv) through (v), (c)(79)(v)(B), (c)(80)(i)(F), (c)(81)(i)(C), (c)(85)(vi)(D), (c)(85)(x)(C), (c)(89)(iii)(D), (c)(93)(iii)(D), (c)(93)(iv)(E), (c)(95)(vi)(B), (c)(96)(iii)(D), (c)(98)(i)(F), (c)(103)(xiii)(D), (c)(103)(xvii)(D), (c)(119)(i)(E), (c)(119)(ii)(B), (c)(124)(ii)(C), (c)(124)(vii)(D), (c)(127)(i) introductory text, (c)(127)(vii)(H) through (I), (c)(137)(vi)(C), (c)(137)(vii)(E) through (H), (c)(138)(ii)(F), (c)(155)(v)(D), (c)(159)(iii)(G), (c)(164)(i)(A)(3), (c)(168)(i)(A)(6), (c)(168)(i)(E)(4), (c)(171)(i)(D)(6), (c)(172)(i)(A)(4), (c)(173)(i)(B)(3), (c)(175)(i)(A)(2), (c)(175)(i)(B)(3), (c)(177)(i)(D)(4), (c)(179)(i)(E)(5),(c)(184)(i)(B)(11), (c)(199)(i)(D)(9), (c)(202)(i)(F)(2), (c)(230)(i)(E)(2), and (c)(262)(i)(A)(2), and by revising (c)(127) introductory text.

The additions and revision read as follows:

§ 52.220 Identification of plan.

* * * * *

(b) * * *

(2) * * *

(iii) Previously approved on May 31, 1972 in paragraph (b) of this section and now deleted without replacement for implementation in the Lake Tahoe Air Basin, Rules 2-17, 2-18, 2-19, and 2-20.

(iv) Previously approved on May 31, 1972 in paragraph (b) of this section and now deleted without replacement for implementation in the Mountain Counties Air Basin, Rules 2-17, 2-18, 2-19, 2-20.

* * * * *

(7) * * *

(ii) Previously approved on May 31, 1972 in paragraph (b) of this section and now deleted without replacement, Rules 17, 18, and 19.

* * * * *

(10) * * *

(ii) Previously approved on May 31, 1972 in paragraph (b) of this section and now deleted without replacement, Rules 2.4, 2.6, and 5.1 to 5.18.

* * * * *

(12) California Air Resources Board.

(i) Previously approved on May 31, 1972 in paragraph (b) of this section and now deleted without replacement, California Health & Safety Code §§ 24292, 24296 to 24303 (Variances); §§ 24310 to 24323 (Procedure); and §§ 24362.6 to 24363 and 24365.1 to 24365.12 (Rules and Regulations).

(13) El Dorado County Air Pollution Control District.

(i) Previously approved on May 31, 1972 in paragraph (b) of this section and now deleted without replacement, Rules 77, 78, 79, and 80.

(14) Imperial County Air Pollution Control District.

(i) Previously approved on May 31, 1972 in paragraph (b) of this section and now deleted without replacement, Rule 110.

* * * * *

(c) * * *

(6) * * *

(i) * * *

(D) Previously approved on September 22, 1972 in paragraph (c)(6) of this section and now deleted without replacement, Rules 18, 22, 23, and 24.

(ii) * * *

(C) Previously approved on September 22, 1972 in paragraph (c)(6) of this section and now deleted without replacement, Rules 204, 206, 210, 211, 212, and 213.

(iii) * * *

(C) Previously approved on September 22, 1972 in paragraph (c)(6) of this section and now deleted without replacement, Rules 1.6, 2.9, 2.10, 2.11, 2.12, and 4.2.

(iv) * * *

(C) Previously approved on September 22, 1972 in paragraph (c)(6) of this section and now deleted without replacement, Rule 206.

(v) * * *

(C) Previously approved on September 22, 1972 in paragraph (c)(6) of this section and now deleted without replacement, Rules 53, 54, 55, and 97.

(vi) * * *

(C) Previously approved on September 22, 1972 in paragraph (c)(6) of this section and now deleted without replacement for implementation in Kern County, Southeast Desert Air Basin, Rules 204, 206, 210, 211, 212, and 213.

(D) Previously approved on September 22, 1972 in paragraph (c)(6) of this section and now deleted without replacement for implementation in Kern County, San Joaquin Valley Air Basin, Rules 107, 109, 206, 303, and 304.

(vii) * * *

(C) Previously approved on September 22, 1972 in paragraph (c)(6) of this section and now deleted without replacement, Rules 206 and 518.

(viii) * * *

(B) Previously approved on September 22, 1972 in paragraph (c)(6) of this section and now deleted without replacement, Rules 2.02, 2.04, 2.06, 2.10, 2.11, 2.12, and 2.13.

(ix) * * *

(B) Previously approved on September 22, 1972 in paragraph (c)(6) of this section and now deleted without replacement, Rule 206.

(x) * * *

(C) Previously approved on September 22, 1972 in paragraph (c)(6) of this section and now deleted without replacement, Rule 206.

(xi) * * *

(C) Previously approved on September 22, 1972 in paragraph (c)(6) of this section and now deleted without replacement, Rules 2.02, 2.04, 2.06, 2.10, 2.12, and 2.13.

(xii) * * *

(C) Previously approved on September 22, 1972 in paragraph (c)(6) of this section and now deleted without replacement, Rule 206.

(xiii) * * *

(C) Previously approved on September 22, 1972 in paragraph (c)(6) of this section and now deleted without replacement, Rule 206.

(xiv) * * *

(C) Previously approved on September 22, 1972 in paragraph (c)(6) of this section and now deleted without replacement, Rule 206.

* * * * *

(xvi) * * *

(C) Previously approved on September 22, 1972 in paragraph (c)(6) of this section and now deleted without replacement, Rules 013, 015, 019, 020, 021, and 022.

* * * * *

(xx) * * *

(B) Previously approved on September 22, 1972 in paragraph (c)(6) of this section and now deleted without replacement, Rule 16.

* * * * *

(xxiii) Shasta County Air Pollution Control District.

(A) Previously approved on September 22, 1972 in paragraph (c)(6) of this section and now deleted without replacement, Rule 2.17 and 2.22.

(xxiv) Ventura County Air Pollution Control District.

(A) Previously approved on September 22, 1972 in paragraph (c)(6) of this section and now deleted without replacement, Rule 22.

* * * * *

(21) * * *

(viii) * * *

(C) Previously approved on August 22, 1977 in paragraph (c)(21)(viii)(A) of this section and now deleted without replacement, Rule 4.11.

* * * * *

(xiv) * * *

(C) Previously approved on June 14, 1978 in paragraph (c)(21)(xiv)(A) of this section and now deleted without replacement, Rule 5.18.

* * * * *

(24) * * *

(iv) * * *

(C) Previously approved on August 22, 1977 in paragraph (c)(iv)(A) of this section and now deleted without replacement, Rule 518.

* * * * *

(vii) * * *

(F) Previously approved on August 22, 1977 in paragraph (c)(vii)(A) of this section and now deleted without replacement for implementation in Kern County, Southeast Desert Air Basin, Rule 518.

(G) Previously approved on August 22, 1977 in paragraph (c)(vii)(A) of this section and now deleted without replacement for implementation in Kern County, San Joaquin Valley Air Basin, Rule 518.

* * * * *

(x) * * *

(F) Previously approved on August 15, 1977 in paragraph (c)(x)(A) of this section and now deleted without replacement, Rule 3.

* * * * *

(25) * * *

(i) * * *

(F) Previously approved on August 22, 1977 in paragraph (c)(25)(i)(A) of this section and now deleted without replacement, Rule 518.

(ii) * * *

(E) Previously approved on August 22, 1977 in paragraph (c)(25)(ii)(A) of this section and now deleted without replacement, Rule 519.

* * * * *

(26) * * *

(viii) * * *

(D) Previously approved on August 22, 1977 in paragraph (c)(26)(viii)(A) of this section and now deleted without replacement, Rule 617.

(ix) * * *

(C) Previously approved on August 22, 1977 in paragraph (c)(26)(ix)(A) of this section and now deleted without replacement Rules 619 and 620.

* * * * *

(xvi) * * *

(F) Previously approved on June 14, 1978 in paragraph (c)(26)(xvi)(B) of this section and now deleted without replacement, Rule 717.

(xvii) * * *

(E) Previously approved on June 14, 1978 in paragraph (c)(26)(xvii)(A) of this section and now deleted without replacement Rule 717 (Lake Tahoe Air Basin).

(F) Previously approved on June 14, 1978 in paragraph (c)(26)(xvii)(A) of this section and now deleted without replacement Rules 705 and 717 (Mountain Counties Air Basin).

(G) Previously approved on June 14, 1978 in paragraph (c)(26)(xvii)(A) of this section and now deleted without replacement Rules 701, 705, 707, 711 to 714, 716, and 717 (Sacramento Valley Air Basin).

* * * * *

(27) * * *

(vii) * * *

(E) Previously approved on June 14, 1978 in paragraph (c)(27)(vii)(A) of this section and now deleted without replacement Rule 717.

(viii) * * *

(E) Previously approved on June 14, 1978 in paragraph (c)(27)(viii)(A) and now deleted without replacement Rules 701, 702, 704 to 709, and 711 to 717.

* * * * *

(28) * * *

(iv) * * *

(C) Previously approved on August 22, 1977 in paragraph (c)(28)(iv)(A) of this section and now deleted without replacement Rule 717.

* * * * *

(31) * * *

(i) * * *

(A) Rules 200 to 216.

* * * * *

(H) Previously approved on December 8, 1976 in paragraph (c)(31)(i)(A) of this section and now deleted without replacement Rules 211 and 214.

(I) Previously approved on June 6, 1977 in paragraph (c)(31)(i)(B) of this section and now deleted without replacement Rules 107 and 616.

* * * * *

(vi) * * *

(F) Previously approved on November 9, 1978 in paragraph (c)(31)(vi)(C) of this section and now deleted without replacement for implementation in the Antelope Valley Air Pollution Control District, Rules 211, 214, 215, and 216.

* * * * *

(xviii) * * *

(G) Previously approved on January 24, 1978 in paragraph (c)(31)(xviii)(B) of this section and now deleted without replacement Rule 717.

* * * * *

(32) * * *

(iii) * * *

(G) Previously approved on June 14, 1978 in paragraph (c)(32)(iii)(C) of this section and now deleted without replacement Rules 505 and 518.

* * * * *

(35) * * *

(xii) * * *

(I) Previously approved on February 1, 1984 in paragraph (c)(35)(xii)(E) of this section and now deleted without replacement Rules 202, 206, 207, and 208.

(xiii) * * *

(E) Previously approved on March 22, 1978 in paragraph (c)(35)(xiii)(A) of this section and now deleted without replacement for implementation in the San Joaquin Valley Air Basin, Rule 104.

* * * * *

(xv) * * *

(G) Previously approved on November 7, 1978 in paragraph (c)(35)(xv)(C) of this section and now deleted without replacement Rule 630.

* * * * *

(37) * * *

(v) * * *

(E) Previously approved on December 6, 1979 in paragraph (c)(37)(v)(B) of this section and now deleted without replacement Rule 717.

* * * * *

(39) * * *

(ii) * * *

(H) Previously approved on September 8, 1978 in paragraph (c)(39)(ii)(C) of this section and now deleted without replacement for implementation in the Mojave Desert Air Quality Management District, Rule 517.

(I) Previously approved on November 9, 1978 in paragraph (c)(39)(ii)(B) of this section and now deleted without replacement for implementation in the Mojave Desert Air Quality Management District, Rules 210, 211, and 214 to 216.

* * * * *

(iv) * * *

(H) Previously approved on November 9, 1978 in paragraph (c)(39)(iv)(B) of this section and now deleted without replacement for implementation in the Mojave Desert Air Quality Management District, Rules 210, 211, and 214 to 216.

(I) Previously approved on September 8, 1978 in paragraph (c)(39)(iv)(C) of this section and now deleted without replacement for implementation in the Mojave Desert Air Quality Management District, Rule 517.

* * * * *

(vii) * * *

(E) Previously approved on August 16, 1978 in paragraph (c)(39)(vii)(A) of this section and now deleted without replacement Rule 514.

(viii) * * *

(E) Previously approved on September 14, 1978 in paragraph (c)(39)(viii)(A) of this section and now deleted without replacement Rules 600, 612, 613, 614, 615, 616, and 617.

* * * * *

(x) * * *

(E) Previously approved on September 14, 1978 in paragraph (c)(39)(x)(A) of this section and now deleted without replacement Rule 514.

* * * * *

(41) * * *

(x) * * *

(H) Previously approved on November 15, 1978 in paragraph (c)(41)(x)(A) of this section and now deleted without replacement Rule 706 (Mountain Counties Air Basin).

(I) Previously approved on November 15, 1978 in paragraph (c)(41)(x)(A) of this section and now deleted without replacement Rules 702 to 704, 706, 708 to 710, and 715 (Sacramento Valley Air Basin).

* * * * *

(42) * * *

(x) * * *

(D) Previously approved on November 6, 1978 in paragraph (c)(42)(x)(A) of this section and now deleted without replacement Rules 700, 703, and 710.

* * * * *

(47) * * *

(i) * * *

(E) Previously approved on May 9, 1980 in paragraph (c)(47)(i)(A) of this section and now deleted without replacement for implementation in the Antelope Valley Air Pollution Control District Rule 1231.

(F) Previously approved on May 9, 1980 in paragraph (c)(47)(i)(A) of this section and now deleted without replacement for implementation in the Mojave Desert Air Quality Management District (Riverside County), Rules 1201 to 1205, 1209 to 1211, 1214, 1217, 1220, 1221, 1223, and 1224.

(G) Previously approved on May 9, 1980 in paragraph (c)(47)(i)(A) of this section and now deleted without replacement for implementation in the South Coast Air Quality Management District, Rules 1201 to 1205, 1209 to 1211, 1214, 1217, 1220, 1221, 1223, and 1224.

* * * * *

(51) * * *

(xiii) * * *

(D) Previously approved on May 18, 1981 in paragraph (c)(51)(xiii)(A) of this section and now deleted without replacement Rules 204, 207, 208, 209, 513, 517, and 519.

(xiv) * * *

(E) Previously approved on May 18, 1981 in paragraph (c)(51)(xiv)(A) of this section and now deleted without replacement Rules 702 to 704 and 707 to 710.

* * * * *

(xx) * * *

(D) Previously approved on June 18, 1982 in paragraph (c)(51)(xx)(A) of this section and now deleted without replacement Rules 8 and 127.

* * * * *

(52) * * *

(xiii) * * *

(F) Previously approved on May 18, 1981 in paragraph (c)(52)(xiii)(D) of this section and now deleted without replacement Rules 504, 506, 512, and 513.

* * * * *

(xvi) * * *

(D) Previously approved on January 26, 1982 in paragraph (c)(52)(xvi)(A) of this section and now deleted without replacement Rules 5.0 to 5.3, 5.5 to 5.19, and 6.1 to 6.7.

* * * * *

(56) * * *

(ii) * * *

(D) Previously approved on June 18, 1982 in paragraph (c)(56)(ii)(B) of this section and now deleted without replacement Rule 27.

* * * * *

(58) * * *

(iii) * * *

(C) Previously approved on June 18, 1982 in paragraph (c)(51)(iii)(B) of this section and now deleted without replacement Rule 203.

* * * * *

(65) * * *

(iv) Previously approved on September 28, 1981 in paragraph (c)(65)(ii) of this section and now deleted without replacement Rules 1206, 1208, 1212, 1213, 1215, 1216, 1218, 1219, 1222, and 1225 to 1230.

(v) Previously approved on September 28, 1981 in paragraph (c)(65)(ii) of this section and now deleted without replacement for implementation in the Mojave Desert Air Quality Management District (Riverside County), Rules 1206, 1208, 1212, 1213, 1215, 1216, 1218, 1219, 1222, and 1225 to 1230.

* * * * *

(79) * * *

(v) * * *

(B) Previously approved on September 28, 1981 in paragraph (c)(79)(v)(A) of this section and now deleted without replacement Rule 14.

* * * * *

(80) * * *

(i) * * *

(F) Previously approved on June 23, 1982 in paragraph (c)(80)(i)(C) of this section and now deleted without replacement Rules 504, 506, and 511 to 513.

* * * * *

(81) * * *

(i) * * *

(C) Previously approved on May 18, 1981 in paragraph (c)(81)(i)(A) of this section and now deleted without replacement Rules 512, 514, 519, and 520 to 524.

* * * * *

(85) * * *

(vi) * * *

(D) Previously approved on April 12, 1982 in paragraph (c)(85)(vi)(A) of this section and now deleted without replacement Rules 2.7 and 2.8.

* * * * *

(x) * * *

(C) Previously approved on July 6, 1982 in paragraph (c)(85)(x)(A) of this section and now deleted without replacement for implementation in Kern County, Southeast Desert Air Basin Rule 110.

* * * * *

(89) * * *

(iii) * * *

(D) Previously approved on April 12, 1982 in paragraph (c)(89)(iii)(B) of this section and now deleted without replacement Rules 4.7, 4.8, 4.9, 4.10, 5.4, and 6.0.

* * * * *

(93) * * *

(iii) * * *

(D) Previously approved on June 18, 1982 in paragraph (c)(93)(iii)(B) of this section and now deleted without replacement Rules 503, 504, 506, and 518 to 521.

* * * * *

(iv) * * *

(E) Previously approved on June 18, 1982 in paragraph (c)(93)(iv)(B) of this section and now deleted without replacement Rules 503, 504, 506, and 518 to 521.

* * * * *

(95) * * *

(vi) * * *

(B) Previously approved on June 18, 1982 in paragraph (c)(95)(vi)(A) of this section now deleted without replacement for implementation in the North Coast Unified Air Quality Management District, Rule 250.

* * * * *

(96) * * *

(iii) * * *

(D) Previously approved on January 26, 1982 in paragraph (c)(96)(iii)(A) of this section and now deleted without replacement Rule 96.

* * * * *

(98) * * *

(i) * * *

(F) Previously approved on April 12, 1982 in paragraph (c)(98)(i)(B) of this section and now deleted without replacement Rules 4.7, 4.9, 4.10, 5.18, 9.7, and 9.8.

* * * * *

(103) * * *

(xiii) * * *

(D) Previously approved on May 27, 1982 in paragraph (c)(103)(xiii)(A) of this section and now deleted without replacement Rule 710.

* * * * *

(xvii) * * *

(D) Previously approved on May 27, 1982 in paragraph (c)(103)(xvii)(A) of this section and now deleted without replacement Rules 503, 504, 506, and 518 to 521.

* * * * *

(119) * * *

(i) * * *

(E) Previously approved on May 27, 1982 in paragraph (c)(119)(i)(A) of this section and now deleted without replacement Rule 520.

(ii) * * *

(B) Previously approved on June 18, 1982 in paragraph (c)(119)(ii)(A) of this section and now deleted without replacement Rule 250.

* * * * *

(124) * * *

(ii) * * *

(C) Previously approved on November 10, 1982 in paragraph (c)(124)(ii)(A) of this section and now deleted without replacement Rules 631 and 660.1 to 660.3.

* * * * *

(vii) * * *

(D) Previously approved on November 10, 1982 in paragraph (c)(124)(vii)(A) of this section and now deleted without replacement Rule 620.

* * * * *

(127) New and amended regulations for the following APCD's submitted on February 3, 1983 by the Governor's designee.

(i) Bay Area Air Quality Management District.

* * * * *

(vii) * * *

(H) Previously approved on October 19, 1984 in paragraph (c)(127)(vii)(C) of this section and now deleted without replacement for implementation in the Antelope Valley Air Pollution Control District and the Mojave Desert Air Quality Management District (Riverside County), Rule 304.

(I) Previously approved on November 18, 1983 in paragraph (c)(127)(vii)(A) of this section and now deleted without replacement for implementation in the Antelope Valley Air Pollution Control District and the Mojave Desert Air Quality Management District, Rules 302 and 303.

* * * * *

(137) * * *

(vi) * * *

(C) Previously approved on February 1, 1984 in paragraph (c)(137)(vi)(A) of this section and now deleted without replacement Rule 2.18.

(vii) * * *

(E) Previously approved on October 19, 1984 in paragraph (c)(137)(vii)(B) of this section and now deleted without replacement Rules 301, 301.1, and 301.2.

(F) Previously approved on October 19, 1984 in paragraph (c)(137)(vii)(B) of this section and now deleted without replacement for implementation in the Antelope Valley Air Pollution Control District, Rules 301 to 301.2.

(G) Previously approved on February 1, 1984 in paragraph (c)(137)(vii)(A) of this section and now deleted without replacement for implementation in the Mojave Desert Air Quality Management District (Riverside County) Rule 1207.

(H) Previously approved on February 1, 1984 in paragraph (c)(137)(vii)(A) of this section and now deleted without replacement for implementation in the South Coast Air Quality Management District Rule 1207.

* * * * *

(138) * * *

(ii) * * *

(F) Previously approved on November 18, 1983 in paragraph (c)(138)(ii)(A) of this section and now deleted without replacement Rules 700, 702, and 703 (Mountain Counties Air Basin).

* * * * *

(155) * * *

(v) * * *

(D) Previously approved on January 29, 1985 in paragraph (c)(155)(v)(A) of this section and now deleted without replacement Regulation 2, Rule 2-502.

* * * * *

(159) * * *

(iii) * * *

(G) Previously approved on July 13, 1987 in paragraph (c)(159)(iii)(A) of this section and now deleted without replacement Rules 203, 210, and 211.

* * * * *

(164) * * *

(i) * * *

(A) * * *

(3) Previously approved on April 17, 1987 in paragraph (c)(164)(i)(A)(1) of this section and now deleted without replacement Rules 504, 506, 519, and 520.

* * * * *

(168) * * *

(i) * * *

(A) * * *

(6) Previously approved on February 3, 1987 in paragraph (c)(168)(i)(A)(1) of this section and now deleted without replacement Rules 423 and 425.

* * * * *

(E) * * *

(4) Previously approved on February 3, 1987 in paragraph (c)(168)(i)(E)(1) of this section and now deleted without replacement Rules 2.12 and 5.10.

* * * * *

(171) * * *

(i) * * *

(D) * * *

(6) Previously approved on April 12, 1989 in paragraph (c)(171)(i)(D)(1) of this section and now deleted without replacement Rules 2:10, 2:26, 2:27, and 4:7.

* * * * *

(172) * * *

(i) * * *

(A) * * *

(4) Previously approved on April 12, 1989 in paragraph (c)(172)(i)(A)(1) of this section and now deleted without replacement Rules 2.8 and 2.9.

* * * * *

(173) * * *

(i) * * *

(B) * * *

(3) Previously approved on February 3, 1989 in paragraph (c)(173)(i)(B)(1) of this section and now deleted without replacement Rules 204 and 210.

* * * * *

(175) * * *

(i) * * *

(A) * * *

(2) Previously approved on April 17, 1989 in paragraph (c)(175)(i)(A)(1) of this section and now deleted without replacement Rule 2:19.

* * * * *

(B) * * *

(3) Previously approved on April 17, 1989 in paragraph (c)(175)(i)(B)(1) of this section and now deleted without replacement Rule 3:15.

* * * * *

(177) * * *

(i) * * *

(D) * * *

(4) Previously approved on April 16, 1991 in paragraph (c)(175)(i)(D)(1) of this section and now deleted without replacement Rule 518.

* * * * *

(179) * * *

(i) * * *

(E) * * *

(5) Previously approved on November 4, 1996 in paragraph (c)(179)(i)(E)(1) of this section and now deleted without replacement Rule 2.10.

* * * * *

(184) * * *

(i) * * *

(B) * * *

(11) Previously approved on May 13, 1999 in paragraph (c)(184)(i)(B)(7) of this section and now deleted without replacement Rules 214, 215, and 216.

* * * * *

(199) * * *

(i) * * *

(D) * * *

(9) Previously approved on June 3, 1999 in paragraph (c)(199)(i)(D)(6) of this section and now deleted without replacement Rule 2040.

* * * * *

(202) * * *

(i) * * *

(F) * * *

(2) Previously approved on July 7, 1997 in paragraph (c)(202)(i)(F)(1) of this section and now deleted without replacement Rule 3.1, paragraphs 403 and 406.

* * * * *

(230) * * *

(i) * * *

(E) * * *

(2) Previously approved on May 2, 2001 in paragraph (c)(230)(i)(E)(1) of this section and now deleted without replacement Rule 422.

* * * * *

(262) * * *

(i) * * *

(A) * * *

(2) Previously approved on June 28, 1999 in paragraph (c)(262)(i)(A)(1) of this section and now deleted without replacement Regulation 1, Rules 402 and 402.1.

* * * * *

[FR Doc. 04-25398 Filed 11-15-04; 8:45 am]

BILLING CODE 6560-50-P